NATIONAL AERONAUTICS AND SPACE ADMINISTRATION

[Notice (02-146)]

NASA Advisory Council, Space Science Advisory Committee Solar System Exploration Subcommittee Meeting

AGENCY: National Aeronautics and Space Administration (NASA).

ACTION: Notice of meeting.

SUMMARY: In accordance with the Federal Advisory Committee Act, Public Law 92-463, as amended, the National Aeronautics and Space Administration announces a forthcoming meeting of the NASA Advisory Council (NAC), Space Science Advisory Committee (SScAC), Solar System Exploration Subcommittee (SSES).

DATES: Monday, December 16, 2002, 8:30 a.m. to 5 p.m., and Tuesday, December 17, 2002, 8:30 a.m. to 5:30 p.m.

ADDRESSES: NASA Headquarters, 300 E Street, SW., Washington, DC 20546, room 3H46.

FOR FURTHER INFORMATION CONTACT: Ms. Marian Norris, Code SB, National Aeronautics and Space Administration, Washington, DC 20546, (202) 358-4452.

SUPPLEMENTARY INFORMATION: The meeting will be open to the public up to the capacity of the room. The agenda for the meeting includes the following topics:

—Solar System Exploration Program—Current Status

—Mars Exploration Program—Current Status

—Mars Exploration Program—Planning for Future

—Discussion of Draft 2003 Roadmap for Solar System Exploration

It is imperative that the meeting be held on these dates to accommodate the scheduling priorities of the key participants. Visitors will be requested to sign a visitor's register. Due to the increased security at NASA facilities, any members of the public who wish to attend this meeting of the Solar System Exploration Subcommittee must provide their name, date and place of birth, citizenship, social security number, or passport and visa information (number, country of issuance and expiration), business address and phone number, if any. This information is to be provided at least 72 hours (5 p.m. EDT on December 10, 2002) prior to the date of the public meeting. Identification information is to be provided to Marian Norris, 202/358-4452, mnorris@hq.nasa.gov. Failure to timely provide such information may result in denial of attendance. Photo identification may be required for entry into the building. Persons with disabilities who require assistance should indicate this in their message. Due to limited availability of seating, members of the public will be admitted on a first-come, first-serve basis. NASA may provide for simulcast in an overflow facility. News media wishing to attend the meeting should follow standard accreditation procedures. Members of the press who have questions about these procedures should contact the NASA Headquarters newsroom (202/358-1600).

June W. Edwards,
Advisory Committee Management Officer, National Aeronautics and Space Administration.

[FR Doc. 02-30936 Filed 12-5-02; 8:45 am]

BILLING CODE 6560-50-P